DEPARTMENT OF AGRICULTURE

Animal and Plant Health Inspection Service

[Docket No. APHIS-2012-0059]

Notice of Request for Extension of Approval of an Information Collection; Plant Protection and Quarantine Stakeholder/Customer Satisfaction Survey

AGENCY: Animal and Plant Health Inspection Service, USDA.

ACTION: Extension of approval of an information collection; comment request.

SUMMARY: In accordance with the Paperwork Reduction Act of 1995, this notice announces the Animal and Plant Health Inspection Service's intention to request an extension of approval of an information collection associated with a Plant Protection and Quarantine stakeholder/customer satisfaction survey.

DATES: We will consider all comments that we receive on or before October 9, 2012.

ADDRESSES: You may submit comments by either of the following methods:

• Federal eRulemaking Portal: Go to http://www.regulations.gov/#!documentDetail;D=APHIS-2012-0059-0001.

• Postal Mail/Commercial Delivery: Send your comment to Docket No. APHIS-2012-0059, Regulatory Analysis and Development, PPD, APHIS, Station 3A-03.8, 4700 River Road Unit 118, Riverdale, MD 20737-1238.

Supporting documents and any comments we receive on this docket may be viewed at http://www.regulations.gov/#!docketDetail;D=APHIS-2012-0059 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the Plant Protection and Quarantine stakeholder/customer satisfaction survey, contact Mr. Christopher Bembenek, Communications Customer Service, PPQ, RPM, APHIS, 4700 River Road, Riverdale, MD 20737; (301) 851-2046. For copies of more detailed information on the information collection, contact Mrs. Celeste Sickles, APHIS' Information Collection Coordinator, at (301) 851-2908.

SUPPLEMENTARY INFORMATION:

Title: Plant Protection and Quarantine; Stakeholder/Customer Satisfaction Survey.

OMB Number: 0579-0360.

Type of Request: Extension of approval of an information collection.

Abstract: In 2003, the Plant Health Programs (PHP) unit, Plant Protection and Quarantine, Animal and Plant Health Inspection Service, obtained from the International Organization for Standardization (ISO, a nongovernmental, worldwide network of national standards institutes) certification in the ISO 9001:2000 standard for its permit services. The ISO 9001:2000 standard specifies the requirements for a quality management system. To meet the ISO 9001:2000 standard, an organization must demonstrate its ability to consistently provide a product that meets customer quality requirements and applicable regulatory requirements, while aiming to enhance customer satisfaction through effective application of the system, including processes for continual improvement of its performance.

In 2009, PHP did not renew its certification in the ISO 9001:2000 standard due to internal agency changes; however, PHP determined that it wanted to continue to measure the performance of its quality management system by monitoring information related to customer perception in relationship to customer requirements. PHP has determined that the best method for obtaining this information is through the use of stakeholder/customer satisfaction surveys. PHP will use responses derived from these surveys to develop new processes and modify existing procedures to provide customers with the optimal level of service.

The survey is intended to solicit stakeholder and customer feedback with regard to their satisfaction with the regulatory services of Permit Services and Pest Permit Evaluations. Responses from the survey recipients will be voluntary. After the information collection request is approved by the Office of Management and Budget (OMB), PHP would allow stakeholders and customers to complete surveys in one of several ways:

• Customers and stakeholders contacting PHP by telephone will be given the option to complete a brief survey following their conversation with a staff member.

• Customers and stakeholders will have surveys emailed to them for completion and return by email or facsimile.

• Customers and stakeholders will have survey invitations containing a link to a short, online survey emailed to them.

• Customers and stakeholders who call APHIS toll-free number (877-770-5990) can select the option to take the survey.

• Customers and stakeholders who contact Permit Services by telephone will have their telephone number captured at the end of the call. The Interactive Voice Response's automatic call attendant will randomly select a number. The call attendant will call and greet the individual, and provide an opportunity for the individual to participate in the survey.

We are asking OMB to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.16 hours per response.

Respondents: Persons who require a permit.

Estimated annual number of respondents: 500.

Estimated annual number of responses per respondent: 1.

Estimated annual number of responses: 500.

Estimated total annual burden on respondents: 48 hours. (Due to averaging, the total annual burden hours may not equal the product of the annual number of responses multiplied by the reporting burden per response.)

All responses to this notice will be summarized and included in the request for OMB approval. All comments will also become a matter of public record.

Done in Washington, DC, this 3rd day of August 2012.
Kevin Shea,
Acting Administrator, Animal and Plant Health Inspection Service.

[FR Doc. 2012-19535 Filed 8-8-12; 8:45 am]

BILLING CODE 3410-34-P